Proclamation 9179 of September 30, 2014

National Cybersecurity Awareness Month, 2014

By the President of the United States of America

A Proclamation

Cyber threats pose one of the gravest national security dangers the United States faces. They jeopardize our country's critical infrastructure, endanger our individual liberties, and threaten every American's way of life. When our Nation's intellectual property is stolen, it harms our economy, and when a victim experiences online theft, fraud, or abuse, it puts all of us at risk. During National Cybersecurity Awareness Month, we continue our work to make our cyberspace more secure, and we redouble our efforts to bring attention to the role we can each play.

Cyberspace touches nearly every part of our daily lives. It supports our schools and businesses, powers the grid that stretches across our Nation, and connects friends and families around the world. Our constant connection has led to revolutions in medicine and technology and has bettered our society, but it has also introduced new risks, especially to our finances, identity, and privacy. That is why last year I signed an Executive Order directing my Administration to identify the best ways to bolster our country's cybersecurity. And earlier this year, we delivered on that commitment by releasing the Cybersecurity Framework. A model of public-private cooperation, this Framework will help industry and Government strengthen the security and resiliency of our critical infrastructure. My Administration is also investing in new strategies and innovations that help keep pace with rapidly changing technology, and because cyberspace crosses every boundary, we will continue engaging with our international partners.

Americans of all ages can take action to raise the level of our collective cybersecurity, and the Department of Homeland Security's “Stop.Think.Connect.” campaign is empowering individuals to do their part. Everyone should utilize secure passwords online and change them regularly. Internet users should take advantage of all available methods to protect their private accounts and information, and parents can teach their children not to share personal information over the Internet. Enhancing the security of our Nation's digital infrastructure is a shared responsibility, and together we can protect our most important information systems. To learn more about safe cyber practices, visit www.DHS.gov/StopThinkConnect.

Our commitment to maintaining an open, secure, and reliable cyberspace ensures the Internet will remain an engine for economic growth and a platform for the free exchange of ideas. This month, we resolve to work together to meet this global challenge.

NOW, THEREFORE, I, BARACK OBAMA, President of the United States of America, by virtue of the authority vested in me by the Constitution and the laws of the United States, do hereby proclaim October 2014 as National Cybersecurity Awareness Month. I call upon the people of the United States to recognize the importance of cybersecurity and to observe this month with activities, events, and training that will enhance our national security and resilience.

IN WITNESS WHEREOF, I have hereunto set my hand this thirtieth day of September, in the year of our Lord two thousand fourteen, and of the Independence of the United States of America the two hundred and thirty-ninth.

[FR Doc. 2014-23860

Filed 10-2-14; 11:15 am]

Billing code 3295-F4